DEPARTMENT OF HEALTH AND HUMAN SERVICES

Administration for Community Living

Announcement of the Intent To Award a Single-Source Cooperative Agreement to the Gerontology Institute, University of Massachusetts Boston

AGENCY: Administration for Community Living, HHS.

ACTION: Notice.

SUMMARY: The Administration for Community Living (ACL) announces the intent to award a single-source cooperative agreement in the amount of $75,000 to the Gerontology Institute, University of Massachusetts Boston (UMass Boston) to support and stimulate the expansion of work already underway by UMass Boston in providing pension counseling services to residents of the State of Illinois.

DATES: The award will be issued for a project period to run concurrently with the existing grantee's budget period.

FOR FURTHER INFORMATION CONTACT: Valerie Soroka, Office of Elder Rights, Administration on Aging, Administration for Community Living, 1 Massachusetts Avenue NW., Washington, DC 20001. Telephone: 202-357-3531; Email: valerie.soroka@acl.hhs.gov.

SUPPLEMENTARY INFORMATION: The ACL's Pension Counseling & Information Program consists of six regional pension counseling projects, covering 29 states. The state of Illinois, with 64 million workers and a pension participation rate of 42%, is one of the largest states without an ACL-funded pension counseling project. The Pension Action Center at UMass Boston, which conducts ACL's New England Pension Assistance Project, is currently providing pension counseling services to residents of Illinois with funding from the Retirement Research Foundation. Additional funds are needed to leverage the foundation's funding, in order to ensure that the current provision of services to Illinois residents will be continued. This supplementary funding would be provided for the approved period.

This program is authorized under Title II of the Older Americans Act (OAA) (42 U.S.C. 3032), as amended by the Older Americans Act Amendments of 2006, Public Law 109-365.

(Catalog of Federal Domestic Assistance 93.048)

Dated: September 11, 2014.
Kathy Greenlee,
Administrator and Assistant Secretary for Aging.

[FR Doc. 2014-22185 Filed 9-16-14; 8:45 am]

BILLING CODE 4154-01-P